DEPARTMENT OF HOMELAND SECURITY

Coast Guard

33 CFR Part 117

[Docket No. USCG-2016-0866]

Drawbridge Operation Regulation; James River, Isle of Wight and Newport News, VA

AGENCY: Coast Guard, DHS.

ACTION: Notice of temporary deviation from regulations; Cancellation.

SUMMARY: The Coast Guard is canceling the temporary deviation concerning the James River Bridge (US17) across the James River, mile 5.0, at Isle of Wight and Newport News, VA. The deviation was necessary to perform bridge maintenance and repairs, which have been completed. The deviation allowed the bridge to remain in the closed-to-navigation position.

DATES: The temporary deviation published on September 16, 2016, in the Federal Register (81 FR 63700) is cancelled as of October 11, 2016.

ADDRESSES: The docket for this deviation, [USCG-2016-0866] is available at http://www.regulations.gov. Type the docket number in the “SEARCH” box and click “SEARCH”. Click on Open Docket Folder on the line associated with this deviation.

FOR FURTHER INFORMATION CONTACT: If you have questions on this cancelation, call or email Mr. Hal R. Pitts, Bridge Administration Branch Fifth District, Coast Guard, telephone 757-398-6222, email Hal.R.Pitts@uscg.mil.

SUPPLEMENTARY INFORMATION: On September 16, 2016, we published a temporary deviation entitled “Drawbridge Operation Regulation; James River, Isle of Wight and Newport News, VA” in the Federal Register (81 FR 63700). The temporary deviation concerned allowed the bridge to remain in the closed-to-navigation position to facilitate repairs to the aerial electrical cable connecting the north tower to the south tower. This deviation from the operating regulations was authorized under 33 CFR 117.35.

On September 26, 2016, The Virginia Department of Transportation, that owns and operates the James River Bridge (US17), across the James River, mile 5.0, at Isle of Wight and Newport News, VA, notified the Coast Guard that repairs had been completed on September 24, 2016, and that the temporary deviation was no longer needed.

Dated: October 5, 2016.
Hal R. Pitts,
Bridge Program Manager, Fifth Coast Guard District.

[FR Doc. 2016-24476 Filed 10-7-16; 8:45 am]

BILLING CODE 9110-04-P